DEPARTMENT OF ENERGY

Federal Energy Regulatory Commission

[Docket No. CP00-472-000]

Destin Pipeline Company, L.L.C.; Notice of Request Under Blanket Authorization

October 5, 2000.

Take notice that on September 29, 2000, Destin Pipeline Company, L.L.C. (Destin), 1301 McKinney Street, Suite 700, Houston, Texas 77010, filed in Docket No. CP00-472-000 a request pursuant to §§ 157.205 and 157.208(b) of the Commission's Regulations (18 CFR 157.205 and 157.208(b)) under the Natural Gas Act (NGA), and Destin's blanket certificate issued in Docket No. CP96-657-000 and -001, for authorization to construct, own, install, and operate an offshore supply lateral line and associated facilities to receive and transport natural gas produced in the Viosca Knoll Area of the Gulf of Mexico, pursuant to Section 7 of the NGA, all as more fully set forth in the application which is on file with the Commission and open to public inspection. This filing may be viewed on the FERC website at http://www.ferc.fed.us/online/htm (call 202-208-2222 for assistance).

The lateral line (the “Pompano Project”) which is the subject of this request will consist of 8.03 miles of 16-inch diameter pipeline to connect the Pompano Platform in Viosca Knoll Block 989 to a subsea tie-in on the Destin pipeline in Viosca Knoll Block 900. Destin will also construct and operate a receipt point with pig launcher, measurement and SCADA equipment to complete the connection with the Pompano Platform. The facilities will have the capability of transporting up to 200 million cubic feet of natural gas per day at a maximum allowable operating pressure of 2,220 pounds per square inch (gauge). Destin estimates the cost of the project to be $13.8 million, including a $4 million contribution in aid of construction to be made by Destin to the shippers to offset a portion of their cost of facilities necessary to connect their production to Destin's system.

Any questions regarding the application may be directed to Larry D. Jensen, Director—Regulatory Affairs, at (713) 230-3134.

Any person or the Commission's staff may, within 45 days after the issuance of the instance notice by the Commission, file pursuant to Rule 214 of the Commission's Procedural Rules (18 CFR 385.214) a motion to intervene or notice of intervention and, pursuant to Section 157.205 of the Commission's regulations under the NGA (18 CFR 157.205), a protest to the request. If no protest is filed within the time allowed therefor, the proposed activity shall be deemed to be authorized effective the day after the time allowed for filing a protest. If a protest is filed and not withdrawn within 30 days after the time allowed for filing a protest, the instant request shall be treated as an application for authorization pursuant to Section 7 of the NGA.

Linwood A. Watson, Jr.,
Acting Secretary.

[FR Doc. 00-26121 Filed 10-11-00; 8:45 am]

BILLING CODE 6717-01-M